DEPARTMENT OF HOMELAND SECURITY

Federal Emergency Management Agency

[Docket ID FEMA-2017-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: December 18, 2017.
Roy E. Wright,
Deputy Associate Administrator for Insurance and Mitigation, Department of Homeland Security, Federal Emergency Management Agency.

State and county | Location and case No. | Chief executive officer of community | Community map repository | Date of modification | Community No.
Arizona:
Maricopa (FEMA Docket No.: B-1719) | City of Goodyear (16-09-2737P) | The Honorable Georgia Lord, Mayor, City of Goodyear, 190 North Litchfield Road, Goodyear, AZ 85338 | Engineering Department, 14455 West Van Buren Street, Suite D-101, Goodyear, AZ 85338 | Jul. 28, 2017 | 040046
Maricopa (FEMA Docket No.: B-1722) | City of Goodyear (16-09-3153P) | The Honorable Georgia Lord, Mayor, City of Goodyear, 190 North Litchfield Road, Goodyear, AZ 85338 | Engineering Department, 14455 West Van Buren Street, Suite D-101, Goodyear, AZ 85338 | Aug. 4, 2017 | 040046
Maricopa (FEMA Docket No.: B-1722) | City of Goodyear (17-09-0108P) | The Honrable Georgia Lord, Mayor, City of Goodyear, 190 North Litchfield Road, Goodyear, AZ 85338 | Engineering Department, 14455 West Van Buren Street, Suite D-101, Goodyear, AZ 85338 | Aug. 18, 2017 | 040046
Maricopa (FEMA Docket No.: B-1719) | City of Peoria (16-09-2450P) | The Honorable Cathy Carlat, Mayor, City of Peoria, 8401 West Monroe Street, Peoria, AZ 85345 | City Hall, 8401 West Monroe Street, Peoria, AZ 85345 | Jul. 14, 2017 | 040050
Maricopa (FEMA Docket No.: B-1722) | Town of Gilbert (17-09-0192P) | The Honorable Jenn Daniels, Mayor, Town of Gilbert, 50 East Civic Center Drive, Gilbert, AZ 85296 | Town Hall, 90 East Civic Center Drive, Gilbert, AZ 85296 | Aug. 4, 2017 | 040044
Maricopa (FEMA Docket No.: B-1719) | Unincorporated Areas of Maricopa County (16-09-2450P) | The Honorable Denny Barney, Chairman, Board of Supervisors, Maricopa County, 301 West Jefferson Street, 10th Floor, Phoenix, AZ 85003 | Flood Control District of Maricopa County, 2801 West Durango Street, Phoenix, AZ 85009 | Jul. 14, 2017 | 040057
Maricopa (FEMA Docket No.: B-1722) | Unincorporated Areas of Maricopa County (16-09-2930P) | The Honorable Denny Barney, Chairman, Board of Supervisors, Maricopa County, 301 West Jefferson Street, 10th Floor, Phoenix, AZ 85003 | Flood Control District of Maricopa County, 2801 West Durango Street, Phoenix, AZ 85009 | Aug. 11, 2017 | 040037
Maricopa (FEMA Docket No.: B-1722) | Unincorporated Areas of Maricopa County (17-09-0108P) | The Honorable Denny Barney, Chairman, Board of Supervisors, Maricopa County, 301 West Jefferson Street, 10th Floor, Phoenix, AZ 85003 | Flood Control District of Maricopa County, 2801 West Durango Street, Phoenix, AZ 85009 | Aug. 18, 2017 | 040037
Maricopa (FEMA Docket No.: B-1722) | Unincorporated Areas of Maricopa County (17-09-0192P) | The Honorable Denny Barney, Chairman, Board of Supervisors, Maricopa County, 301 West Jefferson Street, 10th Floor, Phoenix, AZ 85003 | Flood Control District of Maricopa County, 2801 West Durango Street, Phoenix, AZ 85009 | Aug. 4, 2017 | 040037
Pinal (FEMA Docket No.: B-1719) | City of Maricopa (16-09-1250P) | The Honorable Christian Price, Mayor, City of Maricopa, 39700 West Civic Center Plaza, Maricopa, AZ 85138 | City Hall, 45145 West Madison Avenue, Maricopa, AZ 85139 | Jul. 7, 2017 | 040052
California:
Alameda (FEMA Docket No.: B-1719) | City of Fremont (16-09-3152P) | The Honorable Lily Mei, Mayor, City of Fremont, 3300 Capitol Avenue, Fremont, CA 94538 | City Hall, 39550 Liberty Street, Fremont, CA 94538 | Jul. 17, 2017 | 065028
Los Angeles (FEMA Docket No.: B-1722) | Unincorporated Areas of Los Angeles County (16-09-2361P) | The Honorable Mark Ridley-Thomas, Chairman, Board of Supervisors, Los Angeles County, Kenneth Hahn Hall of Administration, 500 West Temple Street Room 358, Los Angeles, CA 90012 | County of Los Angeles Department of Public Works, Annex Building, 900 South Fremont Avenue, 3rd Floor, Alhambra, CA 91803 | Aug. 21, 2017 | 065043
San Diego (FEMA Docket No.: B-1719) | City of San Diego (15-09-2666P) | The Honorable Kevin L. Faulconer, Mayor, City of San Diego, 202 C Street, 11th Floor, San Diego, CA 92101 | Development Services Department, 1222 1st Avenue, 3rd Floor MS 301, San Diego, CA 92101 | Jul. 24, 2017 | 060295
San Diego (FEMA Docket No.: B-1719) | City of San Diego (16-09-2873P) | The Honorable Kevin L. Faulconer, Mayor, City of San Diego, 202 C Street, 11th Floor, San Diego, CA 92101 | Development Services Department, 1222 1st Avenue, 3rd Floor MS 301, San Diego, CA 92101 | Jul. 7, 2017 | 060295
Ventura (FEMA Docket No.: B-1722) | Unincorporated Areas of Ventura County (16-09-2752P) | The Honorable Linda Parks, Chair, Board of Supervisors, Ventura County, 625 West Hillcrest Drive, L#5650, Thousand Oaks, CA 91360 | Ventura County Hall of Administration, 800 South Victoria Avenue, Ventura, CA 93009 | Aug. 4, 2017 | 060413
Hawaii: Hawaii (FEMA Docket No.: B-1722) | Hawaii County (17-09-0654P) | The Honorable Harry Kim, Mayor, County of Hawaii, 25 Aupuni Street, Hilo, HI 96720 | Department of Public Works, 101 Pauahi Street, Suite 7, Hilo, HI 96720 | Aug. 15, 2017 | 155166
Illinois:
Lake (FEMA Docket No.: B-1719) | City of Highland Park (16-05-6565P) | The Honorable Nancy R. Rotering, Mayor, City of Highland Park, 1707 St. Johns Avenue, Highland Park, IL 60035 | Public Services Building, 1150 Half Day Road, Highland Park, IL 60035 | Jul. 28, 2017 | 170367
Lake (FEMA Docket No.: B-1719) | Village of Deerfield (16-05-6565P) | The Honorable Harriet Rosenthal, Mayor, Village of Deerfield, 850 Waukegan Road, Deerfield, IL 60015 | Village Hall, 850 Waukegan Road, Deerfield, IL 60015 | Jul. 28, 2017 | 170361
Lake (FEMA Docket No.: B-1719) | Village of Mundelein (16-05-6526P) | The Honorable Steve Lentz, Mayor, Village of Mundelein, 300 Plaza Circle, Mundelein, IL 60060 | Village Hall, 300 Plaza Circle, Mundelein, IL 60060 | Jul. 28, 2017 | 170382
Will (FEMA Docket No.: B-1719) | City of Joliet (17-05-2357P) | The Honorable Robert O'Dekirk, Mayor, City of Joliet, 150 West Jefferson Street, Joliet, IL 60432 | City Hall, 150 West Jefferson Street, Joliet, IL 60432 | Jul. 13, 2017 | 170702
Indiana: LaPorte (FEMA Docket No.: B-1722) | City of Michigan City (16-05-4995P) | The Honorable Ron Meer, Mayor, City of Michigan City, City Hall, 100 East Michigan Boulevard, Michigan City, IN 46360 | Planning and Redevelopment Department, Michigan City, City Hall, 100 East Michigan Boulevard, Michigan City, IN 46360 | Aug. 4, 2017 | 180147
Iowa: Floyd (FEMA Docket No.: B-1722) | City of Charles City (17-07-0802P) | The Honorable Jim E. Erb, Mayor, City of Charles City, 105 Milwaukee Mall, Charles City, IA 50616 | City Hall, 105 Milwaukee Mall, Charles City, IA 50616 | Aug. 14, 2017 | 190128
Michigan: Macomb (FEMA Docket No.: B-1722) | City of Fraser (16-05-5239P) | The Honorable Joe Nichols, Mayor, City of Fraser, 33000 Garfield Road, Fraser, MI 48026 | City Hall, 33000 Garfield Road, Fraser, MI 48026 | Aug. 10, 2017 | 260122
Minnesota:
Roseau (FEMA Docket No.: B-1722) | City of Roseau (17-05-1873P) | The Honorable Jeff Pelowski, Mayor, City of Roseau, City Center, 121 Center Street East Suite 202, Roseau, MN 56751 | City Center, 121 Center Street East, Suite 202, Roseau, MN 56751 | Jul. 31, 2017 | 270414
Roseau (FEMA Docket No.: B-1722) | Unincorporated Areas of Roseau County (17-05-1873P) | The Honorable Mark Foldesi, Chairman, Roseau County Board of Commissioners, 606 5th Avenue Southwest, Room #131, Roseau, MN 56751 | Roseau County Courthouse, 606 5th Avenue Southwest, Room #130, Roseau, MN 56751 | Jul. 31, 2017 | 270633
Nevada:
Clark (FEMA Docket No.: B-1722) | City of Henderson (16-09-2952P) | The Honorable Andy A. Hafen, Mayor, City of Henderson, City Hall, 240 South Water Street, Henderson, NV 89015 | Public Works Department, 240 South Water Street, Henderson, NV 89015 | Aug. 10, 2017 | 320005
Clark (FEMA Docket No.: B-1722) | Unincorporated Areas of Clark County (16-09-2952P) | The Honorable Steve Sisolak, Chairman, Board of Supervisors, Clark County, 500 South Grand Central Parkway, 6th Floor, Las Vegas, NV 89106 | Office of the Director of Public Works, 500 South Grand Central Parkway, Las Vegas, NV 89155 | Aug. 10, 2017 | 320003
New Jersey:
Monmouth (FEMA Docket No.: B-1719) | Borough of Highlands (16-02-2118P) | The Honorable Rick O'Neil, Mayor, Borough of Highlands, 42 Shore Drive, Highlands, NJ 07732 | Highlands Borough Hall, 171 Bay Avenue, Highlands, NJ 07732 | Jul. 19, 2017 | 345297
Ohio:
Cuyahoga (FEMA Docket No.: B-1722) | City of Strongsville (16-05-5799P) | The Honorable Thomas P. Perciak, Mayor, City of Strongsville, 16099 Foltz Parkway, Strongsville, OH 44149 | City Hall, 16099 Foltz Parkway, Strongsville, OH 44149 | Aug. 2, 2017 | 390132
Lorain (FEMA Docket No.: B-1722) | Unincorporated Areas of Lorain County (16-05-5799P) | The Honorable Matt Lundy, President, Lorain County Board of Commissioners, 226 Middle Avenue, Elyria, OH 44035 | Lorain County Administration Building, 226 Middle Avenue, Elyria, OH 44035 | Aug. 2, 2017 | 390346
Warren (FEMA Docket No.: B-1719) | City of Mason (17-05-1582P) | The Honorable Victor Kidd, Mayor, City of Mason, 6000 Mason-Montgomery Road, Mason, OH 45040 | Municipal Building, 6000 Mason- Montgomery Road, Mason, OH 45040 | Jul. 31, 2017 | 390559
Oregon:
Lane (FEMA Docket No.: B-1719) | City of Eugene (17-10-0426P) | The Honorable Lucy Vinis, Mayor, City of Eugene, 125 East 8th Avenue, 2nd Floor, Eugene, OR 97401 | Planning Department, 99 West 10th Avenue, Eugene, OR 97401 | Jul. 31, 2017 | 410122
Multnomah (FEMA Docket No.: B-1719). | City of Portland (16-10-0985P) | The Honorable Charlie Hales, Mayor, City of Portland, 1221 Southwest 4th Avenue, Suite 340, Portland, OR 97204 | Bureau of Environmental Services, 1221 Southwest 4th Avenue, Room 230, Portland, OR 97204 | May 23, 2017 | 410183
Texas:
Collin (FEMA Docket No.: B-1719) | City of Celina (16-06-2499P) | The Honorable Sean Terry, Mayor, City of Celina, 142 North Ohio Street, Celina, TX 75009 | City Hall, 320 West Walnut Street, Celina, TX 75009 | Jul. 17, 2017 | 480133
Collin (FEMA Docket No.: B-1719) | Unincorporated Areas of Collin County (16-06-2499P) | The Honorable Keith Self, Mayor, Collin County, Collin County Administration Building, 2300 Bloomdale Road Suite 4192, McKinney, TX 75071 | Collin County Department of Public Works, 210 South McDonald Street, McKinney, TX 75069 | Jul. 17, 2017 | 480130
Dallas (FEMA Docket No.: B-1719) | City of Dallas (16-06-2638P) | The Honorable Michael S. Rawlings, Mayor, City of Dallas, 1500 Marilla Street, Suite 5EN, Dallas, TX 75201 | Department of Public Works, 320 East Jefferson Boulevard, Room 321, Dallas, TX 75203 | Jul. 21, 2017 | 480171
Dallas (FEMA Docket No.: B-1719) | City of Garland (16-06-2638P) | The Honorable Douglas Athas, Mayor, City of Garland, 200 North 5th Street, Garland, TX 75040 | City Hall, 800 Main Street, Garland, TX 75040 | Jul. 21, 2017 | 485471
Dallas (FEMA Docket No.: B-1719) | City of Mesquite (16-06-2638P) | The Honorable Stan Pickett, Mayor, City of Mesquite, 757 North Galloway Avenue, Mesquite, TX 75185 | City Engineering Services, 1515 North Galloway Avenue, Mesquite, TX 75185 | Jul. 21, 2017 | 485490
Dallas (FEMA Docket No.: B-1719) | City of Wilmer (17-06-0411P) | The Honorable Casey Burgess, Mayor, City of Wilmer, 128 North Dallas Avenue, Wilmer, TX 75172 | City Hall, 128 North Dallas Avenue, Wilmer, TX 75172 | Jul. 28, 2017 | 480190
Dallas (FEMA Docket No.: B-1719) | Unincorporated Areas of Dallas County (17-06-0411P) | The Honorable Clay L. Jenkins, County Judge, Dallas County, 411 Elm Street, Dallas, TX 75202 | Dallas County Records Building, 509 Main Street, Dallas, TX 75202 | Jul. 28, 2017 | 480165
Virginia: Fairfax (FEMA Docket No.: B-1719) | Unincorporated Areas of Fairfax County (17-03-0842P) | Mr. Edward L. Long, Jr., Fairfax County Executive, 12000 Government Center Parkway, Fairfax, VA 22035 | Community Map Repository/Stormwater Planning, 12000 Government Center Parkway, Suite 449, Fairfax, VA 22035 | Jul. 28, 2017 | 515525

[FR Doc. 2017-28187 Filed 12-29-17; 8:45 am]

BILLING CODE 9110-12-P